DEPARTMENT OF COMMERCE

Bureau of Economic Analysis

Agency Information Collection Activities; Submission to the Office of Management and Budget (OMB) for Review and Approval; Comment Request; Direct Investment Surveys: BE-10, Benchmark Survey of U.S. Direct Investment Abroad

AGENCY: Bureau of Economic Analysis, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before July 1, 2024.

ADDRESSES: Interested persons are invited to submit written comments to Kirsten Brew, Chief, Multinational Operations Branch, Bureau of Economic Analysis, U.S. Department of Commerce, by email to Kirsten.Brew@bea.gov and PRAcomments@bea.gov. Please reference OMB Control Number 0608-0049 in the subject line of your comments. Do not submit Confidential Business Information or otherwise sensitive or protected information.

FOR FURTHER INFORMATION CONTACT: Requests for additional information or specific questions related to collection activities should be directed to Kirsten Brew, Chief, Multinational Operations Branch, Bureau of Economic Analysis, U.S. Department of Commerce; by mail at 4600 Silver Hill Rd, Suitland, MD 20746 or via email at Kirsten.Brew@bea.gov.

SUPPLEMENTARY INFORMATION:

I. Abstract

The Benchmark Survey of U.S. Direct Investment Abroad (BE- 10) obtains data on the financial structure and operations of U.S. parents and their foreign affiliates. The data are needed to provide reliable, useful, and timely measures of U.S. direct investment abroad, measure changes in such investment, and assess its impact on the U.S. and foreign economies. Such data are generally found in enterprise-level accounting records of respondent companies. The benchmark data provide a baseline for subsequent sample-based estimates in non-benchmark years. In particular, they serve as benchmarks for the quarterly direct investment estimates included in the U.S. international transactions, international investment position, and national income and product accounts, and for annual estimates of the U.S. direct investment abroad position and of the activities of U.S. multinational enterprises. The data collected include balance sheets; income statements; property, plant, and equipment; employment and employee compensation; merchandise trade; sales of goods and services; taxes; and research and development activity.

The Bureau of Economic Analysis (BEA) proposes the following changes:

Data items to be added:

Employment—A question will be added to the Employment section of the BE-10A form to collect data on employees who are on the payroll of the U.S. company but live overseas on a permanent basis. This would include full and part-time employees that work for a foreign affiliate but are paid by the U.S. parent company, and those employees that were hired, or moved, abroad to fill a remote-work position offered by the U.S. parent.

Equity investment—A question will be added to the Assets section of the BE-10C form to collect equity investment in other foreign affiliates, consistent with the BE-10B form.

Data items to be modified:

Supplement A—Will be modified on the BE-10B and C forms to offer more options for the reasons the foreign business enterprises changed since last reported, such as options for “acquired” or “established” if it is a “new” enterprise, and to identify the date of the transaction for new enterprises.

Advertising—Question 109 which collects advertising sales data on the BE-10B form will be expanded to capture additional sales detail by affiliated and unaffiliated customer.

Digital economy—Questions on services provided via digital intermediation platforms collected on the BE-10A (items 60-62) and BE-10B (item 108), and questions on digital delivery and digital ordering collected on the BE-10A (items 63-65) and BE-10B forms (items 110-112) will be modified to more accurately reflect terminology used by BEA survey respondents, and to reflect updates to the definitions of digitally ordered and delivered in the Handbook on Measuring Digital Trade (second edition) jointly authored by the International Monetary Fund, the Organisation for Economic Cooperation and Development, the World Trade Organization, and the United Nations Conference on Trade and Development.

II. Method of Collection

This survey is a benchmark survey, or census. The potential respondent universe for the 2024 Benchmark Survey of U.S. Direct Investment Abroad, BE-10, consists of all U.S. persons (in the broad legal sense, including companies) that own 10 percent or more of the voting securities of an incorporated foreign business enterprise, or an equivalent interest in an unincorporated foreign business enterprise. Persons subject to the reporting requirements of the BE-10, Benchmark Survey of U.S. Direct Investment Abroad, would be required to respond, whether or not they are contacted by BEA.

BEA will provide respondents with advance notice of the survey by mailing them an announcement of the upcoming survey as soon as possible after the survey has been approved by OMB. Later, in March, respondents will receive notification by mail of their obligation to file; responses covering a reporting company's fiscal year ending during the previous calendar year are due by May 31.

BEA offers electronic filing through its eFile system for use in reporting on the BE-10 annual survey forms. In addition, BEA posts all its survey forms and reporting instructions on its website (www.bea.gov/dia). These may be downloaded, completed, printed, and submitted via fax or mail.

III. Data

OMB Control Number: 0608-0049.

Form Number: BE-10.

Type of Review: Revision.

Affected Public: Business or other for-profit organizations.

Estimated Number of Respondents: 29,000 respondents (U.S. parents). A complete response includes a BE-10 A form for the U.S. parent's domestic operation and one or more BE-11 B, C, or D forms for its foreign affiliates that meet the BE-11 survey requirements. BEA estimates that U.S. parents will submit 29,000 A forms, 20,100 B forms, 15,500 C forms, 29,000 D forms, and 1,700 Claim for Exemption forms.

Estimated Total Annual Burden Hours: 842,700 hours. Total annual burden is calculated by multiplying the estimated number of submissions of each form by the average hourly burden per form, which is 11 hours for the A form, 19 hours for the B form, 6 hours for the C form, 2 hours for the D form, and .5 hours for the Claim for Not Filing form.

Estimated Time per Respondent: 29 hours per respondent (842,700 hours/29,000 U.S. parents) is the average but may vary considerably among respondents because of differences in company structure, complexity, and the number of foreign affiliates each U.S. parent must report.

Estimated Total Annual Cost to Public: $0.

Respondent's Obligation: Mandatory.

Legal Authority: International Investment and Trade in Services Survey Act (P.L. 94-472, 22 U.S.C. 3101-3108, as amended).

IV. Request for Comments

We are soliciting public comments to permit the Department of Commerce/Bureau of Economic Analysis to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-09482 Filed 5-1-24; 8:45 am]

BILLING CODE 3510-06-P